ENVIRONMENTAL PROTECTION AGENCY

[ER-FRL-8585-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080234, ERP No. D-AFS-L65556-WA, Dosewallips Road Washout Project, To Reestablish Road Access to both Forest Service Road (FSR) 2610 and Dosewallips Road, Hood Canal Ranger District Olympic National Forest, Olympic National Park, Jefferson County, WA.

Summary: EPA expressed environmental concerns about air quality, water quality and critical fish habitat impacts. EPA also recommended that the Final EIS include additional information regarding erosion and sediment control measures to minimize aquatic impacts. Rating EC2.

EIS No. 20080259, ERP No. D-AFS-J65521-WY, Spruce Gulch Bark Beetle and Fuels Reduction Project, Proposes to Implement Bark Beetle Related Salvage and Suppression Vegetative Treatments and Hazardous Fuels Abatement Treatments, Laramie Ranger District, Medicine Bow-Routt National Forests, Albany and Carbon Counties, WY.

Summary: EPA expressed environmental concerns about potential impacts to water quality and wildlife habitat from new road construction and proposed silvicultural activities. EPA recommended including more detailed implementation parameters when applying adaptive management prescriptions in the final EIS. Rating EC2.

EIS No. 20080261, ERP No. D-USA-K11121-CA, PROGRAMMATIC—Brigade Combat Team Transformation Project, Restructure the 11th Armored Cavalry Regiment (ACR) to a Multi-Component (active duty/reserve) Heavy Brigade Combat Team (HBCT) and change/add several other organizations, Fort Irwin, CA.

Summary: EPA expressed environmental objections to impacts on water resources. Rating EO2.

EIS No. 20080267, ERP No. DS-BLM-K08066-CA, Sunrise Powerlink Transmission Line Project, New Information, Proposed Land Use Plan Amendment, Construction and Operation of a New 91-mile 500 kilovolt (kV) Electric Transmission Line from Imperial Valley Substation (in Imperial Co. near the City of El Centro) to a New Central East Substation (in Central San Diego County) Imperial and San Diego Counties, CA.

Summary: EPA continues to have environmental concerns about adverse impacts to watershed resources, air quality, and the Anza-Borrego Desert State Park. EPA recommends further discussion on purpose and need, and recommends consideration of alternatives with reduced environmental impacts. Rating EC2.

Dated: September 2, 2008.
Ken Mittehlholtz,
Environmental Protection Specialist, Office of Federal Activities.

[FR Doc. E8-20599 Filed 9-4-08; 8:45 am]

BILLING CODE 6560-50-P